DEPARTMENT OF THE TREASURY

Internal Revenue Service

Privacy Act of 1974, as Amended; System of Records

AGENCY: Internal Revenue Service, Treasury.

ACTION: Notice of Alteration to an existing Privacy Act system of records.

SUMMARY: In accordance with the requirements of the Privacy Act of 1974, as amended, 5 U.S.C. 552a, the IRS gives notice of a proposed alteration to Treasury/IRS 26.019, Taxpayer Delinquent Account (TDA) files.

DATES: Comments must be received no later than August 18, 2006. The proposed alteration to this system of records will be effective on August 28, 2006 unless the IRS receives comments which would result in a contrary determination.

ADDRESSES: Comments should be sent to the Internal Revenue Service, Attn. Ms. Patricia Ah Yat, 5000 Ellin Road, NCFB C-9-341, New Carrollton, MD 20706. You may contact her at 202-283-2366 to arrange to see the comments.

FOR FURTHER INFORMATION CONTACT: Deborah Gascard Wolf, Director, Filing and Payment Compliance Modernization Office, Internal Revenue Service, 44 South Clinton Avenue, Trenton, NJ 08609-1241. Telephone number 609-278-7732.

SUPPLEMENTARY INFORMATION: Section 881 of The American Jobs Creation Act of 2004 (Pub. L. 108-357) provides that the IRS may use private collection agencies (PCAs) to locate and contact taxpayers with outstanding federal income tax liabilities and to arrange for payment of those taxes.

The IRS is altering Treasury/IRS 26.019, Taxpayer Delinquent Account (TDA) Files system of records notice to provide that certain records will be at PCA locations. This alteration to the TDA Privacy Act notice is related to the establishment of Treasury/IRS 26.055 and is combined with the report of a new Privacy Act system of records concerning Treasury/IRS 26.055.

The proposed IRS alteration of system of records Treasury/IRS 26.019, Taxpayer Delinquent Account (TDA) Files, is published below.

TREASURY/IRS 26.019

System name:

Taxpayer Delinquent Account (TDA) Files.

System location:

Description of change: Following the parenthetical at the end of the first sentence add the following language:

• “Records will be kept at private collection agency (PCA) locations. Contact the Manager, F&PC PDC Oversight Unit, at 202-283-2366 (this is not a toll-free number), for PCA names and locations that may change from time to time.”

* * * * *

Authority for maintenance of the system:

Description of change: Remove the current text and insert the following: “5 U.S.C. 301 and 26 U.S.C. 7801; and 881 of the American Jobs Creation Act of 2004 (Pub. L. 108-357).”

* * * * *

Dated: July 13, 2006.
Sandra L. Pack,
Assistant Secretary for Management and Chief Financial Officer.

[FR Doc. E6-11399 Filed 7-18-06; 8:45 am]

BILLING CODE 4830-01-P